DEPARTMENT OF HEALTH AND HUMAN SERVICES

Centers for Disease Control and Prevention

Disease, Disability, and Injury Prevention and Control Special Emphasis Panel (SEP): Grants for Injury Control Research Centers, CE09-001

In accordance with Section 10(a)(2) of the Federal Advisory Committee Act (Pub. L. 92-463), the Centers for Disease Control and Prevention (CDC) announces the aforementioned meeting.

Time and Date: 9 a.m.-12 p.m., March 30, 2009 (Closed).

Place: Teleconference.

Status: The meeting will be closed to the public in accordance with provisions set forth in Section 552b(c) (4) and (6), Title 5 U.S.C., and the Determination of the Director, Management Analysis and Services Office, CDC, pursuant to Public Law 92-463.

Matters To Be Discussed: The meeting will include the secondary review of applications received in response to Funding Opportunity Announcement, CE09-001, Grants for Injury Control Research Centers.

For Further Information Contact: Gwendolyn Cattledge, Ph.D., Deputy Associate Director for Science, NCIPC, CDC, 4770 Buford Highway, NE., MS F-62, Atlanta, GA 30341, Telephone (770) 488-4665.

The Director, Management Analysis and Services Office, has been delegated the authority to sign Federal Register notices pertaining to announcements of meetings and other committee management activities, for both CDC and the Agency for Toxic Substances and Disease Registry.

Dated: March 2, 2009.
Elaine L. Baker,
Director, Management Analysis and Services Office, Centers for Disease Control and Prevention.

[FR Doc. E9-5157 Filed 3-10-09; 8:45 am]

BILLING CODE 4163-18-P